DEPARTMENT OF THE INTERIOR

Bureau of Ocean Energy Management

[OMB Control Number 1010-0057; Docket ID: BOEM-2023-0004]

Agency Information Collection Activities; Pollution Prevention and Control

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0057.

DATES: Comments must be received by BOEM no later than November 14, 2023.

ADDRESSES: Send your comments on this ICR by mail to the BOEM Information Collection Clearance Officer, Anna Atkinson, Bureau of Ocean Energy Management, 45600 Woodland Road, Sterling, Virginia 20166; or by email to anna.atkinson@boem.gov. Please reference OMB control number 1010-0057 in the subject line of your comments. You may view the ICR and its related documents by searching the docket number “BOEM-2023-0004” at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available at any time.

For BOEM to consider withholding from disclosure your personally identifiable information, you must identify, in a cover letter, any information contained in your comment that, if released, would constitute a clearly unwarranted invasion of your privacy. You must also briefly describe any possible harmful consequences of the disclosure of information, such as embarrassment, injury, or other harm.

Even if BOEM withholds your personally identifiable information in the context of this ICR, your comment is subject to the Freedom of Information Act (FOIA) (5 U.S.C. 552). Your information will only be withheld if a determination is made that one of the FOIA exemptions to disclosure applies. Such a determination will be made in accordance with the DOI's FOIA implementing regulations (43 CFR part 2) and applicable law.

BOEM will make available for public inspection all comments in their entirety (except privileged or confidential information) submitted by organizations and businesses, or by individuals identifying themselves as representatives of organizations or businesses. BOEM protects privileged and confidential information in accordance with FOIA and the DOI's implementing regulations.

Title of Collection: 30 CFR part 550, subpart C, “Pollution Prevention and Control.”

Abstract: Section 5(a) of the Outer Continental Shelf Lands Act (OCSLA), as amended (43 U.S.C. 1334(a)), authorizes the Secretary of the Interior (Secretary) to prescribe rules and regulations to manage the energy and mineral resources of the Outer Continental Shelf (OCS). Such rules and regulations apply to all operations conducted under a lease, right-of-use and easement, and pipeline right-of-way.

Section 5(a)(8) of OCSLA requires that regulations prescribed by the Secretary include provisions “for compliance with the national ambient air quality standards pursuant to the Clean Air Act (42 U.S.C. 7401 et seq.), to the extent that activities authorized under this subchapter significantly affect the air quality of any State.” This information collection renewal concerns information that is submitted to BOEM under 30 CFR part 550, subpart C, “Pollution Prevention and Control,” which implements section 5(a)(8), and related notices to lessees and operators (NTLs), which clarify and provide additional, nonbinding guidance on aspects of the regulations. BOEM uses this information to inform its decisions on plan approval, to ensure operations are conducted according to all applicable regulations and plan conditions of approval, and to inform State and regional planning organizations' modeling efforts.

BOEM prepares an emission inventory every 3 years to help ensure that its regulations comply with section 5(a)(8) of OCSLA and to implement the requirements at 30 CFR 550.303(k) and 550.304(g). These emission inventories provide the essential input that BOEM needs to assess the impacts of OCS oil and gas activity on the States as mandated by the OCSLA. Also, these inventories provide the States with essential information needed to perform their implementation plan demonstrations to the U.S. Environmental Protection Agency (USEPA). Finally, these inventories provide operators with essential data for their mandatory reporting of greenhouse gases to the USEPA.

BOEM began planning for the 2023 OCS emissions inventory by issuing NTL No. 2022-N01 on October 1, 2022. The NTL instructed lessees and operators on submitting information about their facility operations, as required by OCSLA and BOEM's regulations, through BOEM's web-based emissions reporting tool, the Air Quality System (AQS). AQS allows operators to submit their facility activity data electronically into the system, instantaneously calculates monthly and annual emissions, assures and controls data quality, generates reports such as emission inventory reports, and creates data graphics including geographic information system maps for operators and BOEM. AQS makes it easy for users to enter activity data, calculate emissions data in real-time, and leverage built-in validation features to quality check calculations prior to submission.

OMB Control Number: 1010-0057.

Form Number: None.

Type of Review: Extension of a currently approved collection.

Respondents/Affected Public: Potential respondents comprise Federal OCS oil and gas or sulfur lessees and operators and States.

Total Estimated Number of Annual Responses: 807 responses.

Total Estimated Number of Annual Burden Hours: 51,080 hours.

Respondent's Obligation: Required to retain or obtain a benefit.

Frequency of Collection: Every 3 years.

Total Estimated Annual Non-Hour Burden Cost: None.

The following table details the individual BOEM information collections under OMB Control Number 1010-0057 and respective hour burden estimates for this ICR.

Burden Table
Citation 30 CFR part 550, subpart C and related NTL(s) | Reporting and recordkeeping requirement | Hour burden | Average number of annual responses | Annual burden hours
Facilities described in new or revised EP or DPP
303; 304(a), (f) | Submit, modify, or revise Exploration Plans and Development and Production Plans; submit information required under 30 CFR part 550, subpart B | Burden covered under 1010-0151 (30 CFR part 550, subpart B).
303(k); 304(a), (g); NTL | Collect and report (in manner specified) air quality emissions related data (such as facility, equipment, fuel usage, and other activity information) during each specified calendar year for input into BOEM's impacts assessments, and State and regional planning organizations' modeling through specified software. (e.g., NTL No. 2022-N01: 2023 OCS Emissions Inventory) | 64 hrs per facility | 794 facilities | 50,816
303(l); 304(h) | Collect and submit (in manner specified) meteorological data (not routinely collected); emission data for existing facilities to a State | 8 | 1 submission | 8
Subtotal |  |  | 795 responses | 50,824
Existing Facilities
304(a), (f) | Affected State may submit request, with supporting information, to BOEM for basic emission data from existing facilities to update State's emission inventory | 16 | 5 requests | 80
304(e)(2) | Submit compliance schedule for application of best available control technology (BACT) | 40 | 1 schedule | 40
304(e)(2) | Apply for suspension of operations | Burden covered under BSEE 1014-0022 (30 CFR 250.174). |  | 0
304(f) | Submit information to demonstrate that exempt facility is not significantly affecting air quality of onshore area of a State. Submit additional information to determine if controls are required | 16 | 1 submission | 16
Subtotal |  |  | 7 responses | 136
General
303-304 | Departure and alternative compliance (as cited in 550.142) requests from 550.303 and 550.304 not specifically covered elsewhere in subpart C regulations | 24 | 5 requests | 120
Subtotal |  |  | 5 responses | 120
Total Burden |  |  | 807 responses | 51,080

An agency may not conduct or sponsor, and a person is not required to respond to, a collection of information unless it displays a currently valid OMB control number.

The authority for this action is the Paperwork Reduction Act of 1995 (44 U.S.C. 3501 et seq.).

Karen Thundiyil,
Chief, Office of Regulations, Bureau of Ocean Energy Management.

[FR Doc. 2023-20053 Filed 9-14-23; 8:45 am]

BILLING CODE 4340-98-P